DEPARTMENT OF ENERGY

Federal Energy Regulatory Commission

Notice of Effectiveness of Exempt Wholesale Generator Status

| Docket Nos.
Chestnut Flats Lessee, LLC | EG13-38-000
Osprey Energy Center, LLC | EG13-39-000
CCFC Sutter Energy, LLC | EG13-40-000
Westbrook Energy Center, LLC | EG13-41-000
SWG Arapahoe, LLC | EG13-42-000
Battery Utility of Ohio, LLC | EG13-43-000
Hazle Spindle, LLC | EG13-44-000
Quantum Auburndale Power, LP | EG13-45-000
Quantum Lake Power, LP | EG13-46-000

Take notice that during the month of August 2013, the status of the above-captioned entities as Exempt Wholesale Generators became effective by operation of the Commission's regulations. 18 CFR 366.7(a).

Dated: September 23, 2013.
Nathaniel J. Davis, Sr.,
Deputy Secretary.

[FR Doc. 2013-23749 Filed 9-27-13; 8:45 am]

BILLING CODE 6717-01-P